DEPARTMENT OF COMMERCE

International Trade Administration

[C-570-140]

Certain Mobile Access Equipment and Subassemblies Thereof From the People's Republic of China: Initiation of Countervailing Duty Investigation

AGENCY: Enforcement and Compliance, International Trade Administration, Department of Commerce.

DATES: Applicable March 18, 2021.

FOR FURTHER INFORMATION CONTACT: Robert Copyak, AD/CVD Operations, Office VII, Enforcement and Compliance, International Trade Administration, U.S. Department of Commerce, 1401 Constitution Avenue NW, Washington, DC 20230; telephone: (202) 482-3642.

SUPPLEMENTARY INFORMATION:

The Petition

On February 26, 2021, the U.S. Department of Commerce (Commerce) received a countervailing duty (CVD) petition concerning imports of certain mobile access equipment and subassemblies thereof (mobile access equipment) from the People's Republic of China (China) filed in proper form on behalf of the Coalition of American Manufacturers of Mobile Access Equipment (the petitioner),¹ the members of which are domestic producers of mobile access equipment.² The Petition was accompanied by an antidumping duty (AD) petition concerning certain mobile access equipment and subassemblies thereof from China.³

¹ The members of the Coalition of American Manufacturers of Mobile Access Equipment are: JLG Industries, Inc. and Terex Corporation.

² See Petitioner's Letter, “Certain Mobile Access Equipment and Subassemblies Thereof from the People's Republic of China: Petitions for the Imposition of Antidumping and Countervailing Duties,” dated February 26, 2021 (the Petition).

³ Id.

On March 2, 9, and 12, 2021, Commerce requested supplemental information pertaining to certain aspects of the Petition.⁴ On March 5, 8, 12, and 15, 2021, the petitioner filed responses to these requests for additional information.⁵

⁴ See Commerce's Letters, “Petition for the Imposition of Countervailing Duties on Imports of Certain Mobile Access Equipment and Subassemblies Thereof from the People's Republic of China: Supplemental Questions,” dated March 2, 2021 and “Petitions for the Imposition of Antidumping and Countervailing Duties on Imports Certain Mobile Access Equipment and Subassemblies Thereof from the People's Republic of China: Supplemental Questions,” dated March 2, 2021 (General Issues Supplemental); see also Memorandum, “Petitions for the Imposition of Antidumping and Countervailing Duties on Imports Certain Mobile Access Equipment and Subassemblies Thereof from the People's Republic of China: Phone Call with Counsel to the Petitioner,” dated March 9, 2021 (Phone Call with Petitioner's Counsel Memorandum); and Memorandum, “Petitions for the Imposition of Antidumping and Countervailing Duties on Imports of Certain Mobile Access Equipment and Subassemblies Thereof from the People's Republic of China: Phone Call with Counsel to the Petitioner,” dated March 12, 2021 (Second Phone Call with Petitioner's Counsel Memorandum).

⁵ See Petitioner's Letters, “Certain Mobile Access Equipment and Subassemblies Thereof from the People's Republic of China: Responses to Supplemental Questionnaire on Volume I of the Petition,” dated March 5, 2021 (General Issues Supplement); “Certain Mobile Access Equipment and Subassemblies Thereof from the People's Republic of China: Response to Supplemental Questionnaire on Volume III of the Petition,” dated March 8, 2021(CVD Supplement); “Certain Mobile Access Equipment and Subassemblies Thereof from the People's Republic of China: Responses to the Second Supplemental Questionnaire on Volume I of the Petition,” dated March 12, 2021 (Second General Issues Supplement); and “Certain Mobile Access Equipment and Subassemblies Thereof from the People's Republic of China: Responses to Third Supplemental Questionnaire on Volume I of the Petition,” dated March 15, 2021 (Third General Issues Supplement).

In accordance with section 702(b)(1) of the Tariff Act of 1930, as amended (the Act), the petitioner alleges that the Government of China (GOC) is providing countervailable subsidies, within the meaning of sections 701 and 771(5) of the Act, to producers of mobile access equipment in China and that such imports are materially injuring, or threatening material injury to, the domestic industry producing in the United States. Consistent with section 702(b)(1) of the Act and 19 CFR 351.202(b), for those alleged programs on which we are initiating a CVD investigation, the Petition is supported by information reasonably available to the petitioner.

Commerce finds that the petitioner filed the Petition on behalf of the domestic industry because the petitioner is an interested party as defined in section 771(9)(E) of the Act. Commerce also finds that the petitioner demonstrated sufficient industry support with respect to the initiation of the requested CVD investigation.⁶

⁶ See “Determination of Industry Support for the Petition” section, infra.

Period of Investigation

Because the Petition was filed on February 26, 2021, the period of investigation is January 1, 2020, through December 31, 2020.⁷

⁷ See 19 CFR 351.204(b)(2).

Scope of the Investigation

The merchandise covered by this investigation is mobile access equipment from China. For a full description of the scope of this investigation, see the appendix to this notice.

Comments on Scope of the Investigation

On March 2, 9, 12, and 17, 2021, Commerce requested further information from the petitioner regarding the proposed scope to ensure that the scope language in the Petition is an accurate reflection of the products for which the domestic industry is seeking relief.⁸ On March 5, 12, 15, 16, and 18, 2021, the petitioner revised the scope.⁹ The description of the merchandise covered by this investigation, as described in the appendix to this notice, reflects these clarifications. In its March 16, 2021, submission, the petitioner revised the scope to add an exclusion for rail line vehicles and certain rail line vehicle subassemblies.¹⁰ In its March 18, 2021, submission, the petitioner further revised the scope to clarify the exclusion for such products as follows: “The scope also excludes: (1) Rail line vehicles, defined as vehicles with hi-rail gear or track wheels, and a fixed (non-telescopic) main boom, which perform operations on rail lines, such as laying rails, setting ties, or other rail maintenance jobs; and (2) certain rail line vehicle subassemblies, defined as chassis subassemblies and boom turntable subassemblies for rail line vehicles with a fixed (non-telescopic) main boom.” ¹¹ While Commerce has adopted this provision for purposes of initiation, we note that the petitioner filed the revised scope containing this additional exclusion late in the 20-day period provided for Commerce's analysis of the Petition,¹² and as such, we invite further comments on this exclusion from parties to this proceeding.

⁸ See General Issues Supplemental at 3-4; see also Phone Call with Petitioner's Counsel Memorandum at 1-2; Second Phone Call with Petitioner's Counsel Memorandum at 1-2; and Memorandum, “Petitions for the Imposition of Antidumping and Countervailing Duties on Imports of Certain Mobile Access Equipment and Subassemblies Thereof from the People's Republic of China: Phone Call with Counsel to the Petitioner,” dated March 17, 2021 at 1-2.

⁹ See General Issues Supplement at 6-8; see also Second General Issues Supplement at 1-6; Third General Issues Supplemental at 1-3; and Petitioner's Letters, “Certain Mobile Access Equipment and Subassemblies Thereof from the People's Republic of China: Revision to Scope of Antidumping and Countervailing Duty Investigations,” dated March 16, 2021 (March 16, 2021, Scope Revision) and “Certain Mobile Access Equipment and Subassemblies Thereof from the People's Republic of China: Revision to Clarification Request Regarding the Scope of Antidumping and Countervailing Duty Investigations,” dated March 18, 2021 (March 18, 2021, Scope Revision).

¹⁰ See March 16, 2021, Scope Revision at 1-4.

¹¹ See March 18, 2021, Scope Revision at 1-4.

¹² See 19 CFR 351.203(b)(1).

As discussed in the Preamble to Commerce's regulations, we are setting aside a period for interested parties to raise issues regarding product coverage (i.e., scope).¹³ Commerce will consider all comments received from interested parties and, if necessary, will consult with interested parties prior to the issuance of the preliminary determination. If scope comments include factual information,¹⁴ all such factual information should be limited to public information. To facilitate preparation of its questionnaires, Commerce requests that all interested parties submit scope comments by 5:00 p.m. Eastern Time (ET) on April 7, 2021, which is 20 calendar days from the signature date of this notice.¹⁵ Any rebuttal comments, which may include factual information, must be filed by 5:00 p.m. ET on April 19, 2021, which is the next business day after 10 calendar days from the initial comment deadline.¹⁶

¹³ See Antidumping Duties; Countervailing Duties, 62 FR 27296, 27323 (May 19, 1997) (Preamble).

¹⁴ See 19 CFR 351.102(b)(21) (defining “factual information”).

¹⁵ See 19 CFR 351.303(b).

¹⁶ Commerce's practice dictates that where a deadline falls on a weekend or Federal holiday, the appropriate deadline is the next business day (in this instance, April 17, 2021). See Notice of Clarification: Application of “Next Business Day” Rule for Administrative Determination Deadlines Pursuant to the Tariff Act of 1930, As Amended, 70 FR 24533 (May 10, 2005) (Next Business Day Rule); see also 19 CFR 351.303(b).

Commerce requests that any factual information the parties consider relevant to the scope of the investigation be submitted during this time period. However, if a party subsequently finds that additional factual information pertaining to the scope of the investigation may be relevant, the party may contact Commerce and request permission to submit the additional information. All scope comments must also be filed on the record of the concurrent AD and CVD investigations.

Filing Requirements

All submissions to Commerce must be filed electronically using Enforcement and Compliance (E&C)'s Antidumping Duty and Countervailing Duty Centralized Electronic Service System (ACCESS), unless an exception applies.¹⁷ An electronically filed document must be received successfully in its entirety by the time and date it is due.

¹⁷ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOC of the receipt of the Petition and provided it the opportunity for consultations with respect to the CVD Petition.¹⁸ The GOC requested consultations,¹⁹ which were held via video conference on March 15, 2021.²⁰

¹⁸ See Commerce's Letter, “Certain Mobile Access Equipment and Subassemblies Thereof from the People's Republic of China: Invitation for Consultations to Discuss the Countervailing Duty Petition,” dated March 3, 2021.

¹⁹ See GOC's Letter, “Certain Mobile Access Equipment and Subassemblies Thereof from the People's Republic of China, Request for Consultation to Discuss the Countervailing Duty Petition,” dated March 11, 2021.

²⁰ See Memorandum, ” Consultations with Officials from the Government of China Regarding the Countervailing Duty Petition Concerning Certain Mobile Access Equipment and Subassemblies Thereof from the People's Republic of China,” dated March 16, 2021.

Determination of Industry Support for the Petition

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,²¹ they do so for different purposes and pursuant to a separate and distinct authority. In addition, Commerce's determination is subject to limitations of time and information. Although this may result in different definitions of the like product, such differences do not render the decision of either agency contrary to law.²²

²¹ See section 771(10) of the Act.

²² See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.²³ Based on our analysis of the information submitted on the record, we have determined that mobile access equipment, as defined in the scope, constitutes a single domestic like product, and we have analyzed industry support in terms of that domestic like product.²⁴

²³ See Petition at Volume I at 19-23 and Exhibits I-3, I-17, and I-18; see also General Issues Supplement at 8-12 and Exhibits I-Supp-5 through I-Supp 13 and I-Supp-17.

²⁴ For a discussion of the domestic like product analysis as applied to this case and information regarding industry support, see Checklist, “Countervailing Duty Investigation Initiation Checklist: Certain Mobile Access Equipment and Subassemblies Thereof from the People's Republic of China” dated concurrently with this Federal Register notice (China CVD Initiation Checklist) at Attachment II, Analysis of Industry Support for the Antidumping and Countervailing Duty Petitions Covering Certain Mobile Access Equipment and Subassemblies Thereof from the People's Republic of China (Attachment II).

In determining whether the petitioner has standing under section 702(c)(4)(A) of the Act, we considered the industry support data contained in the Petition with reference to the domestic like product as defined in the “Scope of the Investigation,” in the appendix to this notice. To establish industry support, the petitioner provided its own shipments of mobile access equipment in 2020.²⁵ The petitioner estimated the production of the domestic like product for the entire domestic industry based on shipment data, because production data for the entire domestic industry are not available, and shipments are a close approximation of production in the mobile access equipment industry.²⁶ The petitioner compared its shipments to the estimated total 2020 shipments of the domestic like product for the entire domestic industry.²⁷ We relied on data provided by the petitioner for purposes of measuring industry support.²⁸

²⁵ See Petition at Volume I at 2-5 and Exhibit I-5 and I-16; see also General Issues Supplement at 14; Second General Issues Supplement at 7-8 and Exhibit I-Supp2-1; and Third General Issues Supplement at 3 and Exhibit I-Supp3-1.

²⁶ See Petition at Volume I at 2-5 and Exhibits I-3, I-5, I-6, and I-16; see also General Issues Supplement at 13-18 and Exhibit I-Supp-14; Second General Issues Supplement at 7-8 and Exhibit I-Supp2-1; and Third General Issues Supplement at 3 and Exhibit I-Supp3-1.

²⁷ See Petition at Volume I at 2-5 and Exhibits I-3, I-5, I-6, and I-16; see also General Issues Supplement at 13-18 and Exhibits I-Supp-14 through I-Supp-16; Second General Issues Supplement at 7-8 and Exhibit I-Supp2-1; and Third General Issues Supplement at 3 and Exhibit I-Supp3-1.

²⁸ See Petition at Volume I at 2-5 and Exhibits I-3, I-5, I-6, and I-16; see also General Issues Supplement at 13-18 and Exhibits I-Supp-14 through I-Supp-16; Second General Issues Supplement at 7-8 and Exhibit I-Supp2-1; and Third General Issues Supplement at 3 and Exhibit I-Supp3-1.

Our review of the data provided in the Petition, the General Issues Supplement, the Second General Issue Supplement, the Third General Issues Supplement, and other information readily available to Commerce indicates that the petitioner has established industry support for the Petition.²⁹ First, the Petition established support from domestic producers (or workers) accounting for more than 50 percent of the total production of the domestic like product and, as such, Commerce is not required to take further action in order to evaluate industry support (e.g., polling).³⁰ Second, the domestic producers (or workers) have met the statutory criteria for industry support under section 702(c)(4)(A)(i) of the Act because the domestic producers (or workers) who support the Petition account for at least 25 percent of the total production of the domestic like product.³¹ Finally, the domestic producers (or workers) have met the statutory criteria for industry support under section 702(c)(4)(A)(ii) of the Act because the domestic producers (or workers) who support the Petition account for more than 50 percent of the production of the domestic like product produced by that portion of the industry expressing support for, or opposition to, the Petition.³² Accordingly, Commerce determines that the Petition was filed on behalf of the domestic industry within the meaning of section 702(b)(1) of the Act.³³

²⁹ See Attachment II of the China CVD Initiation Checklist.

³⁰ Id.; see also section 732(c)(4)(D) of the Act.

³¹ See Attachment II of the China CVD Initiation Checklist.

³² Id.

³³ Id.

Injury Test

Because China is a “Subsidies Agreement Country” within the meaning of section 701(b) of the Act, section 701(a)(2) of the Act applies to this investigation. Accordingly, the ITC must determine whether imports of the subject merchandise from China materially injure, or threaten material injury to, a U.S. industry.

Allegations and Evidence of Material Injury and Causation

The petitioner alleges that imports of the subject merchandise are benefitting from countervailable subsidies and that such imports threaten to cause material injury to the U.S. industry producing the domestic like product. In addition, the petitioner alleges that subject imports exceed the negligibility threshold provided for under section 771(24)(A) of the Act.³⁴

³⁴ See Petition at Volume I at 26-27 and Exhibit I-19.

The petitioner contends that the industry's injured condition is illustrated by a significant and increasing volume of subject imports; reduced market share; underselling and price depression or suppression; lost sales and revenues; declines in production, shipments, net sales, and capacity utilization; decline in employment; and declining financial performance and profitability.³⁵ We assessed the allegations and supporting evidence regarding material injury, threat of material injury, causation, as well as negligibility, and we have determined that these allegations are properly supported by adequate evidence and meet the statutory requirements for initiation.³⁶

³⁵ Id. at 18-19, 23-39 and Exhibits I-3, I-6, I-14 through I-16, I-20 through I-26, and I-30 through I-41.

³⁶ See China CVD Initiation Checklist at Attachment III, Analysis of Allegations and Evidence of Material Injury and Causation for the Antidumping and Countervailing Duty Petitions Covering Certain Mobile Access Equipment and Subassemblies Thereof from the People's Republic of China.

Initiation of CVD Investigation

Based upon our examination of the Petition and supplemental responses, we find that the Petition meets the requirements of section 702 of the Act. Therefore, we are initiating a CVD investigation to determine whether imports of mobile access equipment from China benefit from countervailable subsidies conferred by the GOC. Based on our review of the Petition, we find that there is sufficient information to initiate a CVD investigation on all 35 alleged programs. For a full discussion of the basis for our decision to initiate on each program, see China CVD Initiation Checklist. The initiation checklist for this investigation is available on ACCESS. In accordance with section 703(b)(1) of the Act and 19 CFR 351.205(b)(1), unless postponed, we will make our preliminary determination no later than 65 days after the date of this initiation.

Respondent Selection

The petitioner named 19 companies in China as producers and/or exporters of mobile access equipment.³⁷ Commerce intends to follow its standard practice in CVD investigations and calculate company-specific subsidy rates in this investigation. In the event Commerce determines that the number of companies is large and it cannot individually examine each company based upon Commerce's resources, where appropriate, Commerce intends to select mandatory respondents based on quantity and value (Q&V) questionnaires issued to the potential respondents. Commerce normally selects mandatory respondents in CVD investigations using U.S. Customs and Border Protection (CBP) entry data for U.S. imports under the appropriate Harmonized Tariff Schedule of the United States (HTSUS) numbers listed in the scope of the investigation. However, for this investigation, one of the HTSUS numbers under which the subject merchandise would enter (i.e., 8431.20.0000) is a basket category under which non-subject merchandise may enter. Therefore, we cannot rely on CBP entry data in selecting respondents. We intend instead to issue Q&V questionnaires to each potential respondent for which the petitioner has provided a complete address.

³⁷ See Petition at Volume I at Exhibit-11.

Producers/exporters of mobile access equipment from China that do not receive Q&V questionnaires by mail may still submit a response to the Q&V questionnaire and can obtain the Q&V questionnaire from E&C's website at https://enforcement.trade.gov/questionnaires/questionnaires-ad.html. Responses to the Q&V questionnaire must be submitted by the relevant Chinese producers/exporters no later than 5:00 p.m. ET on April 5, 2021. All Q&V responses must be filed electronically via ACCESS. An electronically filed document must be received successfully, in its entirety, by ACCESS no later than 5:00 p.m. ET on the deadline noted above.

Interested parties must submit applications for disclosure under Administrative Protective Order (APO) in accordance with 19 CFR 351.305(b). Instructions for filing such applications may be found on E&C's website at http://enforcement.trade.gov/apo. Commerce intends to finalize its decisions regarding respondent selection within 20 days of publication of this notice.

Distribution of Copies of the Petition

In accordance with section 702(b)(4)(A) of the Act and 19 CFR 351.202(f), a copy of the public version of the Petition has been provided to the GOC via ACCESS. Furthermore, to the extent practicable, Commerce will attempt to provide a copy of the public version of the Petition to each exporter named in the Petition, as provided under 19 CFR 351.203(c)(2).

ITC Notification

Commerce will notify the ITC of its initiation, as required by section 702(d) of the Act.

Preliminary Determination by the ITC

The ITC will preliminarily determine, within 45 days after the date on which the Petition was filed, whether there is a reasonable indication that imports of mobile access equipment from China are materially injuring, or threatening material injury to, a U.S. industry.³⁸ A negative ITC determination will result in the investigation being terminated.³⁹ Otherwise, this investigation will proceed according to statutory and regulatory time limits.

³⁸ See section 703(a)(1) of the Act.

³⁹ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁰ and, if the information is submitted to rebut, clarify, or correct factual information already on the record, to provide an explanation identifying the information already on the record that the factual information seeks to rebut, clarify, or correct.⁴¹ Time limits for the submission of factual information are addressed in 19 CFR 351.301, which provides specific time limits based on the type of factual information being submitted. Interested parties should review the regulations prior to submitting factual information in this investigation.

⁴⁰ See 19 CFR 351.301(b).

⁴¹ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301.⁴² For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission; under limited circumstances we will grant untimely-filed requests for the extension of time limits. Parties should review Commerce's regulations concerning the extension of time limits prior to submitting extension requests or factual information in this investigation.⁴³ Parties should review Extension of Time Limits; Final Rule, 78 FR 57790 (September 20, 2013), available at http://www.gpo.gov/fdsys/pkg/FR-2013-09-20/html/2013-22853.htm, prior to submitting factual information in this investigation.

⁴² See 19 CFR 351.302.

⁴³ See 19 CFR 351; see also Extension of Time Limits; Final Rule, 78 FR 57790 (September 20, 2013), available at http://www.gpo.gov/fdsys/pkg/FR-2013-09-20/html/2013-22853.htm.

Certification Requirements

Any party submitting factual information in an AD or CVD proceeding must certify to the accuracy and completeness of that information.⁴⁴ Parties must use the certification formats provided in 19 CFR 351.303(g).⁴⁵ Commerce intends to reject factual submissions if the submitting party does not comply with the applicable certification requirements.

⁴⁴ See section 782(b) of the Act.

⁴⁵ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under administrative protective order in accordance with 19 CFR 351.305. Parties wishing to participate in this investigation should ensure that they meet the requirements of document submission procedures (e.g., the filing of letters of appearance as discussed at 19 CFR 351.103(d)).⁴⁶ Note that Commerce has temporarily modified certain of its requirements for serving documents containing business proprietary information, until further notice.⁴⁷

⁴⁶ See Antidumping and Countervailing Duty Proceedings: Documents Submission Procedures; APO Procedures, 73 FR 3634 (January 22, 2008).

⁴⁷ See Temporary Rule Modifying AD/CVD Service Requirements Due to COVID-19; Extension of Effective Period, 85 FR 41363 (July 10, 2020).

This notice is issued and published pursuant to sections 702 and 777(i) of the Act, and 19 CFR 351.203(c).

Dated: March 18, 2021.
Christian Marsh,
Acting Assistant Secretary for Enforcement and Compliance.

Appendix

Scope of the Investigation

The merchandise covered by this investigation consists of certain mobile access equipment, which consists primarily of boom lifts, scissor lifts, and material telehandlers, and subassemblies thereof. Mobile access equipment combines a mobile (self-propelled or towed) chassis, with a lifting device (e.g., scissor arms, boom assemblies) for mechanically lifting persons, tools and/or materials capable of reaching a working height of ten feet or more, and a coupler that provides an attachment point for the lifting device, in addition to other components. The scope of this investigation covers mobile access equipment and subassemblies thereof whether finished or unfinished, whether assembled or unassembled, and whether the equipment contains any additional features that provide for functions beyond the primary lifting function.

Subject merchandise includes, but is not limited to, the following subassemblies:

• Scissor arm assemblies, or scissor arm sections, for connection to chassis and platform assemblies. These assemblies include: (1) Pin assemblies that connect sections to form scissor arm assemblies, and (2) actuators that power the arm assemblies to extend and retract. These assemblies may or may not also include blocks that allow sliding of end sections in relation to frame and platform, hydraulic hoses, electrical cables, and/or other components;

• boom assemblies, or boom sections, for connection to the boom turntable, or to the chassis assembly, or to a platform assembly or to a lifting device. Boom assemblies include telescoping sections where the smallest section (or tube) can be nested in the next larger section (or tube) and can slide out for extension and/or articulated sections joined by pins. These assemblies may or may not include pins, hydraulic cylinders, hydraulic hoses, electrical cables, and/or other components;

• chassis assemblies, for connection to scissor arm assemblies, or to boom assemblies, or to boom turntable assemblies. Chassis assemblies include: (1) Chassis frames, and (2) frame sections. Chassis assemblies may or may not include axles, wheel end components, steering cylinders, engine assembly, transmission, drive shafts, tires and wheels, crawler tracks and wheels, fuel tank, hydraulic oil tanks, battery assemblies, and/or other components;

• boom turntable assemblies, for connection to chassis assemblies, or to boom assemblies. Boom turntable assemblies include turntable frames. Boom turntable assemblies may or may not include engine assembly, slewing rings, fuel tank, hydraulic oil tank, battery assemblies, counterweights, hoods (enclosures), and/or other components.

Importation of any of these subassemblies, whether assembled or unassembled, constitutes unfinished mobile access equipment for purposes of this investigation.

Processing of finished and unfinished mobile access equipment and subassemblies such as trimming, cutting, grinding, notching, punching, slitting, drilling, welding, joining, bolting, bending, beveling, riveting, minor fabrication, galvanizing, painting, coating, finishing, assembly, or any other processing either in the country of manufacture of the in-scope product or in a third country does not remove the product from the scope. Inclusion of other components not identified as comprising the finished or unfinished mobile access equipment does not remove the product from the scope.

The scope excludes forklifts, vertical mast lifts, mobile self-propelled cranes and motor vehicles that incorporate a scissor arm assembly or boom assembly. Forklifts are material handling vehicles with a working attachment, usually a fork, lifted along a vertical guide rail with the operator seated or standing on the chassis behind the vertical mast. Vertical mast lifts are person and material lifting vehicles with a working attachment, usually a platform, lifted along a vertical guide rail with an operator standing on the platform. Mobile self-propelled cranes are material handling vehicles with a boom attachment for lifting loads of tools or materials that are suspended on ropes, cables, and/or chains, and which contain winches mounted on or near the base of the boom with ropes, cables, and/or chains managed along the boom structure. The scope also excludes motor vehicles (defined as a vehicle driven or drawn by mechanical power and manufactured primarily for use on public streets, roads, and highways, but does not include a vehicle operated only on a rail line pursuant to 49 U.S.C. 30102(a)(7)) that incorporate a scissor arm assembly or boom assembly. The scope further excludes vehicles driven or drawn by mechanical power operated only on a rail line that incorporate a scissor arm assembly or boom assembly. The scope also excludes: (1) Rail line vehicles, defined as vehicles with hi-rail gear or track wheels, and a fixed (non-telescopic) main boom, which perform operations on rail lines, such as laying rails, setting ties, or other rail maintenance jobs; and (2) certain rail line vehicle subassemblies, defined as chassis subassemblies and boom turntable subassemblies for rail line vehicles with a fixed (non-telescopic) main boom.

Certain mobile access equipment subject to this investigation is typically classifiable under subheadings 8427.10.8020, 8427.10.8030, 8427.10.8070, 8427.10.8095, 8427.20.8020, 8427.20.8090, 8427.90.0020 and 8427.90.0090 of the Harmonized Tariff Schedule of the United States (HTSUS). Parts of certain mobile access equipment are typically classifiable under subheading 8431.20.0000 of the HTSUS. While the HTSUS subheadings are provided for convenience and customs purposes only, the written description of the merchandise under investigation is dispositive.

[FR Doc. 2021-06181 Filed 3-24-21; 8:45 am]

BILLING CODE 3510-DS-P